DEPARTMENT OF THE INTERIOR

Fish and Wildlife Service

Notice of Availability of Draft Comprehensive Conservation Plan and Environmental Assessment for Merritt Island National Wildlife Refuge in Brevard and Volusia Counties, Florida

AGENCY: Fish and Wildlife Service, Interior.

ACTION: Notice of Availability.

SUMMARY: The Fish and Wildlife Service announces that a Draft Comprehensive Conservation Plan and Environmental Assessment for Merritt Island National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates nd Service policies. In addition to outlining broad management direction on conserving wildlife and their habitats, plans identify wildlife-dependent recreational opportunities available to the public, including opportunities for hunting, fishing, wildlife observation, wildlife photography, and environmental education and interpretation.

DATES: Comments on the Draft Comprehensive Conservation Plan and Environmental Assessment for Merritt Island National Wildlife Refuge must be received no later than February 26, 2007.

ADDRESSES: A copy of the draft plan and environmental assessment is available on compact diskette or hard copy, and may be obtained by contacting the refuge at: Telephone: 321/861-0667; E-mail: MerrittIslandCCP@fws,giv; or by writing to: Merritt island NWR CCP, P.O. Box 6504, Titusville, Florida 32782-6504. You may also access or download a copy of the plan and environmental assessment at the following Web site address: http://southeast.fws.gov/planning/. Comments should be mailed to the refuge at the above address or e-mailed to: MerrittIslandCCP@fws.gov.

SUPPLEMENTARY INFORMATION: The draft comprehensive conservation plan addresses several priority issues raised by the Service, the Florida Fish and Wildlife Conservation Commission, other governmental partners, and the public, including: the spread of exotic, invasive, and nuisance species; the threats to threatened, endangered, and other imperiled species; the threats and impacts of an ever-increasing human population and the associated demand for public use activities; the management/maintenance of impounded wetlands; the coordination between intergovernmental partners; and the decline in migratory birds and their habitats.

To address these priority issues, four alternatives were developed and evaluated during the planning process.

Alternative A continues current refuge management activities and programs. Under this alternative, the refuge would continue to maintain 550 Florida scrub jay family groups across 15,000 acres, 11-13 nesting pairs of bald eagles, and 6.3 miles of sea turtle nesting beaches.

Alternative B expands refuge management actions on needs of threatened and endangered species. The refuge would aggressively manage for Florida scrub jays, restoring and maintaining 19,000-20,000 acres in optimal condition to support 900 family groups. Habitat management activities would support the number of nesting pairs of bald eagles to expand to 20, with increased protection of nest sites, development of artificial nesting platforms, and increased cultivation of future nest areas and nesting trees.

Alternative C focuses refuge management actions on the needs of migratory birds. Current management activities for threatened and endangered species would remain the same or would be decreased. The refuge would manage intensively for waterfowl, increasing the acres of impounded wetlands managed to over 16,000 acres and annually supporting targets of 250 breeding pairs of mottled duck, 60,000 lesser scaup, 25,000 dabbling ducks, and 38,000 diving ducks. The refuge would also intensively manage for shorebirds, increasing to over 5,000 acres managed in impounded wetlands.

Alternative D, the Service's proposed alternative, takes a more landscape view of the refuge and its resources, focusing refuge management on wildlife and habitat diversity. The refuge would support 500-650 Florida scrub jay family groups with 350-500 territories in optimal conditions across 15,000-16,000 acres. With active management, the refuge would support 11-15 nesting pairs of bald eagles; maintain 6.3 miles of sea turtle nesting beaches; and maintain 100 acres of habitat for the southeastern beach mouse, while the refuge population would serve as a source for reintroduction of the beach mouse to other sites. Manatee-focused management would be re-established on the refuge. The refuge would manage 15,000-16,000 acres in impounded wetlands with a waterfowl focus and would support targets of 250 breeding pairs of mottled ducks, 60,000 lesser scaup, 25,000 dabbling ducks, and 38,000 other diving ducks. Visitor services, programs, and messages would be focused on wildlife and habitat diversity, while also including threatened and endangered species and migratory birds.

The actions outlined in the draft plan and in two included step-down plans provide direction and guidance for management of Merritt Island National Wildlife Refuge. Successful implementation will depend on coordiantion and partnerships between the public, the Service, and other governmental agencies.

After the review and comment period for the draft plan and environmental assessment, all comments will be analyzed and considered by the Service. All comments from individuals become part of the official public record. Requests for such comments will be handled in accordance with the Freedom of Information Act and other Service and Departmental policies and procedures.

Merritt Island National Wildlife Refuge was established in 1963, to protect migratory birds through an agreement with the National Aeronautics and Space Administration, as an overlay of John F. Kennedy Space Center. The over 140,000 acres of beaches and dunes, estuarine waters, forested and non-forested wetlands, impounded wetlands, adn upland shrub lands and forests of the refuge support over 500 wildlife species and over 1,000 plant species, including a variety of waterfowl, shorebirds, and neotropical migratory birds.

FOR FURTHER INFORMATION CONTACT: Ron Hight, Refuge Manager, or Cheri Ehrhardt, Natural Resource Planner, at 321/861-0667.

Authority: This notice is published under the authority of the National Wildlife Refuge System Improvement Act of 1997, Public Law 105-57.

Dated: August 9, 2006.
Cynthia K. Dohner,
Acting Regional Director.

Editorial Note: This document was received at the Office of the Federal Register on December 21, 2006.

[FR Doc. 06-9870 Filed 12-26-06; 8:45 am]

BILLING CODE 4310-55-M